DEPARTMENT OF HOMELAND SECURITY

Coast Guard

[Docket No. USCG-2024-0591]

National Maritime Security Advisory Committee; August 2024 Meeting

AGENCY: United States Coast Guard, Department of Homeland Security.

ACTION: Notice of open Federal advisory committee meeting.

SUMMARY: The National Maritime Security Advisory Committee (Committee) will conduct a series of meetings over two days in conjunction with the 11th Annual Maritime Security West Conference in San Diego, CA to discuss the Committee's open taskings concerning Navigation and Vessel Inspection Circular (NVIC) 03-03 updates, Active Shooter/Active Threat in the Maritime Environment, Unmanned Systems in the Maritime Environment, and Notice of Proposed Rulemaking (NPRM) for Cybersecurity in the Marine Transportation System. All meetings will be open to the public and will not require registration to the Conference.

DATES:

Meetings: The Committee will meet on Tuesday, August 13, 2024, from 2:45 p.m. until 4:45 p.m. Pacific Standard Time (PST), and on Wednesday, August 14, 2024, from 9:00 a.m. until 10:00 a.m. (PST). Please note these meetings may close early if the Committee has completed its business.

Comments and supporting documentation: To ensure your comments are received by Committee members before the meetings, submit your written comments no later than August 9, 2024.

ADDRESSES: The meetings will be held in the Garden conference room at the Paradise Point Resort, 1404 Vacation Road, San Diego, CA 92109 https://paradisepoint.com/. The meetings will also be held virtually. To join the virtual meetings or to request special accommodations, contact the individual listed in the FOR FURTHER INFORMATION CONTACT section no later than 1 p.m. EST on August 9, 2024, to obtain the needed information. The number of virtual lines are limited and will be available on a first-come, first-served basis.

Pre-registration information: Pre-registration is required for attending the virtual meeting. You must request attendance by contacting the individual listed in the FOR FURTHER INFORMATION CONTACT section below. You will receive a response with attendance instructions.

The National Maritime Security Advisory Committee is committed to ensuring all participants have equal access regardless of disability status. If you require reasonable accommodations due to a disability to fully participate, please email Mr. Ryan Owens at ryan.f.owens.uscg.mil or call (202) 302-6565 as soon as possible.

Instructions: You are free to submit comments at any time, including orally at the meetings as time permits. But, if you want Committee members to review your comment before the meetings, please submit your comments no later than August 9, 2024. We are particularly interested in comments on the topics in the “Agenda” section below. We encourage you to submit comments through the Federal Decision Making Portal at https://www.regulations.gov. To do so, go to https://www.regulations.gov, type USCG-2024-0591 in the search box and click “Search”. Next, look for this document in the Search Results column, and click on it. Then click on the Comment option. If your material cannot be submitted using https://www.regulations.gov, contact the individual in the FOR FURTHER INFORMATION CONTACT section for alternate instructions. You must include the docket number USCG-2024-0591. Comments received will be posted without alteration at https://www.regulations.gov including any personal information provided. You may wish to review the Privacy and Security Notice found via a link on the homepage https://www.regulations.gov. and DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov, and can be viewed by following that website's instructions. Additionally, if you go to the online docket and sign-up for email alerts, you will be notified when comments are posted.

FOR FURTHER INFORMATION CONTACT: Mr. Ryan Owens, Alternate Designated Federal Officer of the National Maritime Security Advisory Committee, telephone 202-302-6565 or via email at ryan.f.owens@uscg.mil.

SUPPLEMENTARY INFORMATION: Notice of these meetings is in compliance with the Federal Advisory Committee Act, (Pub. L. 117-286, 5 U.S.C. ch. 10). The Committee is authorized, by section 601 of the Frank LoBiondo Coast Guard Authorization Act of 2018, Public Law 115-282, 132 Stat. 4192, and is codified in 46 U.S.C. 70112. The Committee operates under the provisions of the Federal Advisory Committee Act and 46 U.S.C. 15109. The National Maritime Security Advisory Committee provides advice, consults with, and makes recommendations to the Secretary of Homeland Security, via the Commandant of the U.S. Coast Guard, on matters relating to national maritime security.

Agenda

Tuesday, August 13, 2024

(1) Call to Order.

(2) Introduction.

(3) Designated Federal Officer Remarks.

(4) Roll call of Committee Members and determination of quorum.

(5) Remarks from Committee Leadership.

(6) Discussion of Task T-2023-02: Active Shooter/Active Threat in the Maritime Environment.

(7) Discussion of Task T-2023-03: Unmanned Systems in the Maritime Environment.

(8) Discussion of Task T-2023-01: Update of NVIC 03-03, “Implementation Guidance for the Regulations Mandated by the Maritime Transportation Security Act of 2002 for Facilities.”

(9) Discussion of Committee Topic Out-Brief: Task T-2024-01: NPRM for Cybersecurity in the Marine Transportation System.

(10) Public Comment Period.

(11) Adjournment of Meeting.

Wednesday, August 14, 2024

(1) Call to Order.

(2) Introduction.

(3) Roll call of Committee Members and determination of quorum.

(4) Committee Open Topic Briefs and Public Discussions and Inputs.

(5) Public Comment Period.

(6) Adjournment of Meeting.

A copy of all meeting documentation will be available at https://homeport.uscg.mil/NMSAC no later than August 9, 2024. Alternatively, you may contact Mr. Ryan Owens as noted in the FOR FURTHER INFORMATION CONTACT section above.

There will be a public comment period at the end of meetings. Speakers are requested to limit their comments to 3 minutes. Please note that the public comment period may end before the period allotted, following the last call for comments. Please contact the individual listed in the FOR FURTHER INFORMATION CONTACT section above to register as a speaker.

Dated: July 2, 2024.
Amy M. Beach,
Captain, U.S. Coast Guard, Director of Inspections and Compliance.

[FR Doc. 2024-14969 Filed 7-8-24; 8:45 am]

BILLING CODE 9110-04-P